NEIGHBORHOOD REINVESTMENT CORPORATION

Sunshine Act; Regular Board of Directors Meeting

Time and Date: 9:30 a.m., Friday, March 10, 2006.

Place: Neighborhood Reinvestment Corporation, DBA NeighborWorks® America, 1325 G Street NW., Suite 800, Boardroom, Washington, DC 20005.

Status: Open/Closed.

Contact Person for More Information: Jeffrey T. Bryson, General Counsel/Secretary. 202-220-2372; jbryson@nw.org.

Agenda:

I. Call to Order: Chairman Curry.

Summary Agenda

No substantive discussion of the following items is anticipated. These matters will be resolved with a single vote unless a member of the Board of Directors requests that an item be moved to the discussion agenda.

II. Approval of the Minutes: December 19, 2005 Regular Meeting.

III. Summary Report of the Audit Committee: January 20, 2006 Meeting. (Ms. Williams will be available to answer questions.)

IV. Summary Report of the Finance, Budget and Program Committee: February 2, 2006 Meeting. (Mr. Reich will be available to answer questions.)

• Treasurer's Report for the Quarter ending December 31, 2005. (Mr. Tuminaro will be available to answer questions.)

V. Resolution Recognizing Doug Dylla's Contributions.

Closed Session

After conclusion of the Discussion Agenda, the Board will meet in closed session to discuss personnel issues concerning performance evaluations and compensation for the officers and internal audit director.

VI. Corporate Administration Committee Report: March 9, 2006, Mr. Hood.

Discussion Agenda

VII. Chief Executive Officer's Quarterly Management Report: Mr. Wade.

• NHSA Update: Ms. Widener.

VIII. Katrina Rebuilding Initiative: Mr. Fitzgerald.

IX. Strategic Plan Update: Mr. Wade.

X. Adjournment: Chairman Curry.

Jeffrey T. Bryson,
General Counsel/Secretary.

[FR Doc. 06-2232 Filed 3-3-06; 5:01 pm]

BILLING CODE 7570-01-M